DEPARTMENT OF AGRICULTURE

Agricultural Marketing Service

7 CFR Part 1240

[Doc. No. AMS-LP-21-0028]

RIN 0581-AE07

Natural Grass Sod Promotion, Research, and Information Order: Withdrawal of Proposed Rule

AGENCY: Agricultural Marketing Service, USDA.

ACTION: Notice of withdrawal of proposed rulemaking and termination of rulemaking proceeding.

SUMMARY: The Agricultural Marketing Service (AMS) is withdrawing the proposed rule published in the Federal Register on December 10, 2024, that proposed a new grass sod research and promotion program under the Commodity Promotion, Research, and Information Act of 1996. The proposed Order was submitted to the U.S. Department of Agriculture (USDA) by Turfgrass Producers International (TPI), a group of natural grass sod producers. AMS conducted a referendum among eligible producers to determine whether they favor establishing a national promotion, research, and information program (Program). After reviewing the results of the producer referendum, a simple majority of industry producers who voted in the referendum are not in favor of establishing a Program, and therefore, the proposed rule is being withdrawn.

DATES: As of May 29, 2025, the proposed rule published December 10, 2024 (89 FR 99149) is withdrawn.

ADDRESSES: Maribel Reyna, Research and Promotion Division; Livestock and Poultry Program, AMS, USDA; Room 2092-S, STOP 0249; 1400 Independence Avenue SW, Washington, DC 20250-0249; telephone: (202) 302-1139; email: Maribel.Reyna@usda.gov.

FOR FURTHER INFORMATION CONTACT: Maribel Reyna; Director; Research and Promotion Division; Livestock and Poultry Program, AMS, USDA; telephone: (202) 302-1139; or email: Maribel.Reyna@usda.gov.

SUPPLEMENTARY INFORMATION: This withdrawal is issued pursuant to the Commodity Promotion, Research, and Information Act of 1996 (1996 Act or Act) (7 U.S.C. 7411-7425).

This action withdraws a proposed rule published in the Federal Register on December 10, 2024, for the establishment of an industry-funded promotion, research, and information program for natural grass sod products (89 FR 99149).

In accordance with the procedures established in the final rule, “Natural Grass Sod Promotion, Research, and Information Order; Referendum Procedures” (89 FR 99059; December 10, 2024), codified at 7 CFR part 1240, AMS conducted an initial referendum to determine whether issuance of the proposed Order was favored by natural grass sod producers. The voting period was January 13, 2025, through February 11, 2025. To be eligible to vote, current natural grass sod producers had to have sold natural grass sod products in the United States during the representative period from January 1, 2024, through December 31, 2024. Eligible producers provided evidence of natural grass sod sales during the representative period. Ballots were mailed to all known eligible natural grass sod producers on or before January 10, 2025. Ballots were received by the Referendum Agents no later than the close of business 5 p.m. (Eastern Standard Time) on February 11, 2025.

After reviewing and tabulating the ballots April 7, 2025, through April 10, 2025, AMS determined that the results of the votes showed that a simple majority of producers were not in favor of issuance of an Order. AMS received a total of 411 ballots, 348 of which were valid. Two hundred and twenty-one (221) producers voted against, and one hundred and twenty-seven (127) producers voted in favor of the proposed Order.

Referendum Voting Results as Required by the Order
| Number | Percent
Yes | 127 | 36.49
No | 221 | 63.51
Total Valid Ballots | 348 | 100

Accordingly, the proposed rule to implement a new grass sod research and promotion program under the 1996 Act published in the Federal Register on December 10, 2024 (89 FR 99149) is hereby withdrawn.

List of Subjects in 7 CFR Part 1240

Administrative practice and procedure, Advertising, Consumer information, Marketing agreements, Natural grass sod, Reporting and recordkeeping requirements.

Authority: 7 U.S.C. 7411-7425.

Erin Morris,
Associate Administrator, Agricultural Marketing Service.

[FR Doc. 2025-09696 Filed 5-28-25; 8:45 am]

BILLING CODE P